SECURITIES AND EXCHANGE COMMISSION

Sunshine Act Meeting

Federal Register Citation of Previous Announcement: [71 FR 66352, November 14, 2006].

Status: Closed Meeting.

Place: 100 F Street, NE., Washington, DC.

Date and Time of Previously Announced Meeting: Monday, November 20, 2006 at 2 p.m.

Change in the Meeting: Time Change.

The Closed Meeting scheduled for Monday, November 20, 2006 at 2 p.m. has been changed to Monday, November 20, 2006 at 10 a.m.

At times, changes in Commission priorities require alterations in the scheduling of meeting items. For further information and to ascertain what, if any, matters have been added, deleted or postponed, please contact the Office of the Secretary at (202) 551-5400.

Dated: November 15, 2006.
Nancy M. Morris,
Secretary.

[FR Doc. 06-9269 Filed 11-15-06; 11:00 am]

BILLING CODE 8011-01-P